DEPARTMENT OF AGRICULTURE

Forest Service

Plumas National Forest, CA, Plumas National Forest Public Wheeled Motorized Travel Management EIS

AGENCY: Forest Service, USDA.

ACTION: Notice of intent to prepare an Environmental Impact Statement.

SUMMARY: The Plumas National Forest (PNF) will prepare an Environmental Impact Statement to disclose the impacts associated with the following proposed actions: 1. The prohibition of wheeled motorized vehicle travel by the public off designated National Forest System (NFS) roads and NFS motorized trails and open areas except as allowed by permit or other authorization. 2. The addition of approximately 375 miles of existing unauthorized routes (including 2 miles in vehicle restricted areas) to the current system of NFS motorized trails. 3. The addition of 36 acres in 1 open area where use of wheeled motorized vehicles by the public would be allowed anywhere within that area.

DATES: The comment period on the proposed action will extend 60 days from the date the Notice of Intent is published in the Federal Register.

Completion of the Draft Environmental Impact Statement (DEIS) is expected in September 2008 and the Final Environmental Impact Statement (FEIS) is expected in December 2008.

ADDRESSES: Send written comments to: Travel Management Team, c/o Plumas National Forest, PO Box 11500 Quincy California 95971.

FOR FURTHER INFORMATION CONTACT: Peter Hochrein, Plumas National Forest, PO Box 11500 Quincy California 95971. Phone: 530-283-7718. E-mai1: plumas_ohv_mail_in_database@fs.fed.us

SUPPLEMENTARY INFORMATION:

Background

Over the past few decades, the availability and capability of motorized vehicles, particularly off-highway vehicles (OHVs) and sport utility vehicles (SUVs) has increased. Nationally, the number of OHV users has increased sevenfold in the past 30 years, from approximately 5 million in 1972 to 36 million in 2000. California is experiencing the highest level of OHV use of any state in the nation. There were 786,914 ATVs and OHV motorcycles registered in 2004, up 330% since 1980. Annual sales of ATVs and OHV motorcycles in California were the highest in the U.S. for the last 5 years. Four-wheel drive vehicle sales in California also increased by 1500% to 3,046,866 from 1989 to 2002.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands.” (USDA Forest Service, June 2004).

On August 11, 2003, the Pacific Southwest Region of the Forest Service entered into a Memorandum of Intent (MOI) with the California Off-Highway Motor Vehicle Recreation Commission, and the Off-Highway Motor Vehicle Recreation Division of the California Department of Parks and Recreation. That MOI set in motion a region-wide effort to “Designate OHV roads, trails, and any specifically defined open areas for motorized wheeled vehicles on maps of the 19 National Forests in California by 2007.” On November 9, 2005, the Forest Service published final travel management regulations in the Federal Register (FR Vol. 70, No. 216—Nov. 9, 2005, pp 68264-68291). This final Travel Management Rule requires designation of those roads, trails, and areas that are open to motor vehicle use on National Forests. Designations will be made by class of vehicle. The final rule prohibits the use of motor vehicles off the designated system as well as use of motor vehicles on routes and in areas that are not designated.

On some NFS lands, long managed as open to cross-country motor vehicle travel, repeated use has resulted in unplanned, roads and trails. These routes were generally developed without environmental analysis or public involvement, and do not have the same status as NFS roads and NFS trails included in the forest transportation system. Nevertheless, some unauthorized routes are well-sited, provide excellent opportunities for outdoor recreation by motorized and non-motorized users, and would enhance the National Forest system of designated roads, trails and open areas. Other unauthorized routes are poorly located and cause unacceptable impacts. Only NFS roads and NFS trails can be designated for wheeled motorized vehicle use. In order for an unauthorized route to be designated, it must be added to the forest transportation system.

In accordance with the MOI, the PNF completed an inventory of unauthorized routes on NFS lands and identified approximately 1,073 miles of unauthorized routes. The PNF then used an interdisciplinary process to conduct travel analysis that included working with interested members of the public to determine whether any of the unauthorized routes should be proposed for addition to the PNF transportation system. Roads, trails and open areas that are currently part of the PNF transportation system and are open to wheeled motorized vehicle travel will remain designated for such use. This proposal focuses on the prohibition of wheeled motorized vehicle travel off designated routes and the addition of unauthorized routes and open areas to the PNF transportation system. The proposed action is being carried forward in accordance with the Travel Management Rule (36 CFR Part 212).

In accordance with the rule, following a decision on this proposal, the Plumas National Forest will publish a Motor Vehicle Use Map (MVUM) identifying all PNF roads, trails and open areas that are designated for motor vehicle use. The MVUM shall specify the classes of vehicles for which use is designated.

Purpose and Need for Action

The following needs have been identified for this proposal:

1. There is a need for reglation of unmanaged wheeled motorized vehicle travel by the public. Currently, wheeled motorized vehicle travel by the public is not prohibited off designated routes. In their enjoyment of the National Forest, motorized vehicle users have created numerous unauthorized routes. The number of such routes continues to grow each year with many routes having environmental impacts and safety concerns that have not been addressed. The Travel Management Rule, 36 CFR Part 212, provides policy for ending this trend of unauthorized route proliferation and managing the Forest transportation system in a sustainable manner through designation of motorized NFS roads, trails and open areas, and the prohibition of cross-country travel.

2. There is a need for limited changes and additions to the PNF transportation system to:

2.1. Provide a diversity of wheeled motorized recreation opportunities (4X4 vehicles, motorcycles, ATVs, passenger vehicles, etc.)

2.2. Provide wheeled motorized access for recreational opportunities.

It is Forest Service policy to provide a diversity of road and trail opportunities for experiencing a variety of environments and modes of travel consistent with the National Forest recreation role and land capability (FSM 2353.03(2)).

In meeting these needs the proposed action will also achieve the following purposes:

A. Avoid impacts to cultural resources.

B. Provide for public safety.

C. Provide for a diversity of recreational opportunities.

D. Assure adequate access to public and private lands.

E. Provide for adequate maintenance and administration of road, trail and area designations based on availability of resources and funding to do so.

F. Minimize damage to soil, vegetation and other forest resources.

G. Avoid harassment of wildlife and significant disruption of wildlife habitat.

H. Minimize conflicts between wheeled motor vehicles and other existing or proposed recreational uses of NFS lands.

I. Minimize conflicts among different classes of wheeled motor vehicle uses of NFS lands or neighboring federal lands.

J. Assure compatibility of wheeled motor vehicle use with existing conditions in populated areas, taking into account sound, emissions, etc.

K. Insure valid existing rights of use and access (rights-of-way).

Proposed Action

1. Prohibition of wheeled motorized vehicle travel off the designated NFS roads, NFS trails and open areas by the public except as allowed by permit or other authorization.

2. Additions to the National Forest Transportation System—The PNF currently manages and maintains approximately 4,150 miles of NFS roads and 102 miles of NFS motorized trails. Based on the stated purpose and need for action, and as a result of the recent travel analysis process, the PNF proposes to add approximately 375 miles of existing unauthorized routes. These additions would bring the total NFS motorized trails to 477 miles. The additional NFS motorized trails are listed below along with the permitted vehicle class.

NFS Motorized Trail Additions From Unclassified Routes for Yearlong Use
Route ID | Length (miles) | Permitted vehicle class
4M01 | 1.55 | Motorcycle Only.
4M02 | 0.76 | Motorcycle Only.
5M01 | 2.16 | Motorcycle Only.
5M02 | 2.41 | Motorcycle Only.
5M03 | 0.25 | Motorcycle Only.
5M04 | 2.02 | Motorcycle Only.
5M05 | 0.79 | Motorcycle Only.
5M06 | 0.47 | Motorcycle Only.
5M07 | 0.29 | Motorcycle Only.
5M08 | 0.45 | Motorcycle Only.
5M08A | 0.12 | Motorcycle Only.
5M09 | 0.65 | Motorcycle Only.
5M10 | 0.28 | Motorcycle Only.
5M11 | 0.65 | Motorcycle Only.
5M12 | 1.92 | Motorcycle Only.
5M13 | 1.11 | Motorcycle Only.
5M14 | 0.55 | Motorcycle Only.
5M15 | 1.05 | Motorcycle Only.
5M16 | 0.84 | 50″ or less in width.
5M17 | 0.90 | Motorcycle Only.
5M18 | 1.00 | Motorcycle Only.
5M19 | 0.60 | Motorcycle Only.
5M20 | 0.80 | Motorcycle Only.
5M21 | 1.32 | Motorcycle Only.
5M22 | 1.60 | Motorcycle Only.
5M23 | 1.69 | Motorcycle Only.
5M24 | 1.17 | Motorcycle Only.
5M25 | 0.76 | Motorcycle Only.
5M25A | 0.34 | Motorcycle Only.
5M26 | 0.49 | Motorcycle Only.
5M27 | 1.22 | Motorcycle Only.
5M28 | 1.19 | Motorcycle Only.
5M29 | 2.34 | All.
5M30 | 1.42 | Motorcycle Only.
6M02 | 0.87 | Motorcycle Only.
6M03 | 1.15 | Motorcycle Only.
6M03A | 0.08 | Motorcycle Only.
6M04 | 1.39 | Motorcycle Only.
6M05 | 0.41 | Motorcycle Only.
6M06 | 0.88 | All.
6M08 | 1.74 | Motorcycle Only.
6M09 | 0.48 | Motorcycle Only.
6M10 | 3.62 | Motorcycle Only.
6M11 | 0.98 | Motorcycle Only.
6M12 | 0.85 | All.
6M13 | 1.41 | Motorcycle Only.
6M14 | 2.62 | Motorcycle Only.
6M14A | 0.17 | Motorcycle Only.
6M15 | 0.49 | Motorcycle Only.
6M16 | 2.26 | Motorcycle Only.
6M16A | 0.29 | Motorcycle Only.
6M16B | 0.11 | Motorcycle Only.
6M17 | 1.00 | Motorcycle Only.
6M17A | 0.12 | Motorcycle Only.
6M19 | 2.90 | Motorcycle Only.
6M20 | 1.72 | Motorcycle Only.
6M21 | 0.77 | All.
6M22 | 2.98 | Motorcycle Only.
6M22A | 0.64 | Motorcycle Only.
6M23 | 1.11 | Motorcycle Only.
6M23A | 0.19 | Motorcycle Only.
6M24 | 0.23 | Motorcycle Only.
6M25 | 0.20 | All.
6M26 | 1.36 | Motorcycle Only.
6M27 | 0.83 | Motorcycle Only.
6M28 | 0.09 | Motorcycle Only.
6M29 | 3.91 | Motorcycle Only.
6M29A | 0.20 | Motorcycle Only.
6M29B | 0.47 | Motorcycle Only.
6M29C | 0.76 | Motorcycle Only.
6M30 | 0.50 | Motorcycle Only.
6M30A | 0.06 | Motorcycle Only.
6M31 | 0.32 | Motorcycle Only.
6M32 | 0.36 | Motorcycle Only.
6M33 | 0.65 | Motorcycle Only.
6M34 | 0.52 | All.
6M34A | 0.37 | Motorcycle Only.
6M35 | 0.47 | Motorcycle Only.
6M36 | 0.86 | Motorcycle Only.
6M37 | 1.42 | All.
6M38 | 0.38 | All.
6M39 | 0.66 | All.
6M44 | 0.95 | Motorcycle Only.
7M01 | 0.59 | All.
7M02 | 1.12 | Motorcycle Only.
7M03 | 0.36 | Motorcycle Only.
7M04 | 0.31 | Motorcycle Only.
7M05 | 0.54 | Motorcycle Only.
7M06 | 0.40 | Motorcycle Only.
7M07 | 0.39 | Motorcycle Only.
7M08 | 0.86 | Motorcycle Only.
7M09 | 0.26 | Motorcycle Only.
7M10 | 0.54 | Motorcycle Only.
7M11 | 0.48 | 50″ or less in width.
7M12 | 0.94 | 50″ or less in width.
7M14 | 0.25 | All.
7M15 | 1.20 | All.
7M16 | 0.94 | All.
7M17 | 1.73 | All.
7M18 | 0.66 | All.
7M22 | 0.53 | 50″ or less in width.
8M01 | 0.50 | Motorcycle Only.
8M02 | 0.78 | All.
8M03 | 1.46 | All.
8M04 | 0.69 | 50″ or less in width.
8M10 | 0.67 | 50″ or less in width.
8M11 | 0.84 | All.
8M11 | 0.00
8M11A | 0.12 | All.
8M13 | 0.96 | 50″ or less in width.
8M14 | 0.27 | 50″ or less in width.
8M15 | 0.32 | 50″ or less in width.
8M16 | 0.77 | 50″ or less in width.
8M17 | 1.28 | 50″ or less in width.
8M18 | 0.41 | 50″ or less in width.
8M19 | 1.27 | 50″ or less in width.
8M21 | 0.72 | All.
8M22 | 0.48 | All.
8M23 | 0.49 | All.
8M24 | 2.71 | 50″ or less in width.
8M25 | 1.03 | All.
8M26 | 1.01 | All.
8M27 | 2.26 | All.
8M27A | 0.33 | All.
8M28 | 1.08 | 50″ or less in width.
8M28A | 0.10 | 50″ or less in width.
8M29 | 0.66 | 50″ or less in width.
8M30 | 0.49 | 50″ or less in width.
8M31 | 1.11 | 50″ or less in width.
8M32 | 0.64 | All.
8M33 | 0.96 | All.
8M34 | 0.06 | All.
8M35 | 1.57 | All.
8M36 | 0.96 | All.
8M37 | 0.82 | All.
8M37A | 0.08 | All.
8M37B | 0.15 | All.
8M38 | 0.54 | All.
8M39 | 0.71 | All.
8M39A | 0.32 | All.
8M40 | 0.34 | All.
8M41 | 0.33 | All.
8M42 | 0.98 | 50″ or less in width.
8M43 | 0.36 | All.
8M44 | 0.30 | All.
8M45 | 0.46 | All.
8M46 | 0.61 | All.
8M47 | 1.46 | All.
8M47A | 0.35 | All.
8M48 | 0.49 | All.
8M49 | 0.32 | All.
8M50 | 0.83 | All.
8M51 | 0.84 | All.
8M52 | 1.39 | All.
8M53 | 0.66 | All.
8M54 | 0.82 | All.
9M01 | 0.91 | 50″ or less in width.
9M02 | 0.39 | Motorcycle Only.
9M03 | 0.56 | 50″ or less in width.
9M04 | 0.18 | Motorcycle Only.
9M05 | 1.40 | 50″ or less in width.
9M06 | 0.39 | 50″ or less in width.
9M07 | 0.08 | Motorcycle Only.
9M08 | 2.11 | 50″ or less in width.
9M08A | 0.13 | 50″ or less in width.
9M09 | 0.84 | 50″ or less in width.
9M10 | 1.65 | 50″ or less in width.
9M11 | 0.65 | Motorcycle Only.
9M12 | 0.38 | Motorcycle Only.
9M13 | 0.48 | All.
9M14 | 1.50 | All.
9M14A | 0.58 | All.
9M15 | 0.81 | Motorcycle Only.
9M16 | 1.22 | 50″ or less in width.
9M16A | 0.57 | 50″ or less in width.
9M17 | 1.38 | All.
9M18 | 0.05 | All.
9M19 | 0.67 | All.
9M20 | 1.39 | All.
9M21 | 1.63 | All.
9M22 | 0.76 | All.
9M23 | 0.69 | All.
9M24 | 0.85 | All.
9M25 | 1.72 | 50″ or less in width.
9M25A | 0.14 | 50″ or less in width.
9M26 | 0.90 | 50″ or less in width.
9M27 | 0.24 | 50″ or less in width.
9M32 | 0.60 | All.
9M32A | 0.37 | All.
9M33 | 2.66 | Motorcycle Only.
9M34 | 0.55 | Motorcycle Only.
9M35 | 0.69 | Motorcycle Only.
9M36 | 1.33 | All.
9M37 | 1.68 | All.
9M37A | 0.43 | All.
9M37B | 0.25 | All.
9M38 | 1.61 | 50″ or less in width.
9M39 | 1.13 | All.
9M39A | 0.69 | All.
9M40 | 1.01 | 50″ or less in width.
9M41 | 0.67 | Motorcycle Only.
9M41A | 0.19 | Motorcycle Only.
9M42 | 0.84 | All.
9M42A | 0.17 | All.
9M42B | 0.52 | All.
9M43 | 0.26 | All.
9M44 | 0.49 | All.
9M45 | 0.61 | Motorcycle Only.
9M46 | 0.95 | All.
9M46A | 0.49 | All.
9M47 | 1.40 | All.
9M47A | 0.47 | All.
9M48 | 1.26 | All.
9M49 | 1.46 | All.
9M50 | 0.30 | All.
9M50A | 0.17 | All.
9M51 | 1.27 | All.
9M52 | 0.63 | All.
9M53 | 0.59 | All.
9M53A | 0.46 | All.
9M54 | 0.45 | All.
9M55 | 0.53 | All.
9M56 | 0.73 | All.
9M56A | 0.38 | All.
9M57 | 0.82 | All.
9M57A | 0.17 | All.
9M58 | 0.34 | All.
9M58A | 0.63 | All.
9M59 | 0.66 | All.
9M59A | 0.47 | All.
9M59B | 0.56 | All.
9M59C | 0.24 | All.
9M59D | 0.18 | All.
9M59E | 0.43 | All.
9M60 | 0.42 | All.
9M62 | 0.51 | All.
10M01 | 0.45 | Motorcycle Only.
10M02 | 1.25 | 50″ or less in width.
10M03 | 0.97 | 50″ or less in width.
10M04 | 1.70 | 50″ or less in width.
10M04A | 0.27 | 50″ or less in width.
10M06 | 3.31 | 50″ or less in width.
10M07 | 2.24 | 50″ or less in width.
10M09 | 0.84 | All.
10M11 | 1.36 | All.
10M12 | 0.95 | All.
10M13 | 0.20 | All.
10M14 | 0.12 | All.
10M15 | 0.54 | All.
10M16 | 1.09 | All.
10M19 | 1.26 | All.
10M20 | 1.31 | All.
10M20A | 0.48 | All.
10M20B | 0.13 | All.
10M21 | 1.24 | All.
10M21A | 0.28 | All.
10M21B | 0.91 | All.
10M21C | 0.13 | All.
10M22 | 0.50 | All.
10M23 | 2.06 | All.
10M24 | 1.28 | All.
10M25 | 1.78 | All.
10M26 | 1.92 | Motorcycle Only.
10M27 | 0.51 | All.
10M28 | 1.38 | All.
10M28A | 1.01 | All.
10M29 | 1.56 | All.
10M30 | 0.83 | All.
10M30A | 0.24 | All.
10M30B | 0.27 | All.
10M30C | 0.09 | All.
10M30D | 0.18 | All.
10M31 | 0.24 | All.
10M32 | 1.26 | 50″ or less in width.
10M33 | 0.70 | All.
10M34 | 1.51 | All.
10M35 | 0.68 | All.
10M36 | 1.15 | All.
10M36A | 0.17 | All.
10M38 | 2.47 | 50″ or less in width.
10M39 | 0.17 | All.
10M40 | 1.35 | 50″ or less in width.
10M42 | 1.44 | All.
10M43 | 1.15 | All.
10M44 | 0.45 | All.
10M45 | 0.67 | All.
10M46 | 0.71 | All.
10M47 | 1.50 | All.
11M02 | 1.72 | All.
11M03 | 0.52 | All.
11M04 | 0.76 | All.
11M05 | 0.96 | All.
11M06 | 0.42 | All.
11M07 | 0.16 | All.
11M08 | 1.16 | Motorcycle Only.
11M08A | 0.27 | Motorcycle Only.
11M08B | 0.09 | Motorcycle Only.
11M09 | 1.07 | All.
11M10 | 1.97 | Motorcycle Only.
11M11 | 1.03 | Motorcycle Only.
11M13 | 1.03 | Motorcycle Only.
11M13A | 0.35 | Motorcycle Only.
11M13B | 0.53 | Motorcycle Only.
11M13C | 0.06 | Motorcycle Only.
11M13D | 0.08 | Motorcycle Only.
11M14 | 0.42 | Motorcycle Only.
11M15 | 0.38 | Motorcycle Only.
11M15A | 0.25 | Motorcycle Only.
11M16 | 0.65 | Motorcycle Only.
11M17 | 0.96 | Motorcycle Only.
11M18 | 0.23 | Motorcycle Only.
11M18A | 0.54 | Motorcycle Only.
11M19 | 0.66 | All.
11M20 | 1.37 | All.
11M21 | 1.76 | All.
11M21A | 0.10 | All.
11M21B | 0.06 | All.
11M22 | 0.40 | 50″ or less in width.
11M23 | 0.67 | 50″ or less in width.
11M24 | 0.39 | All.
11M25 | 0.43 | All.
11M30 | 0.58 | All.
11M34 | 0.73 | All.
11M35 | 0.71 | All.
11M36 | 1.36 | All.
11M37 | 2.15 | All.
11M38 | 0.53 | All.
11M39 | 0.55 | All.
11M40 | 0.64 | All.
11M41 | 1.29 | All.
11M41A | 0.35 | All.
11M42 | 0.16 | All.
12M02 | 1.23 | All.
12M03 | 0.76 | All.
12M04 | 0.41 | All.
12M06 | 0.85 | All.
12M07 | 0.44 | All.
12M08 | 0.72 | All.
12M09 | 3.08 | All.
12M09A | 0.84 | All.
12M10 | 1.77 | All.
12M11 | 1.77 | All.
12M12 | 0.67 | All.
12M13 | 0.40 | All.
12M14 | 0.58 | All.
12M15 | 0.23 | All.
12M16 | 1.21 | All.
12M17 | 0.16 | All.
12M18 | 0.14 | All.
12M19 | 0.68 | All.
12M20 | 0.11 | All.
12M21 | 0.23 | All.
12M21A | 0.05 | All.
12M22 | 0.15 | All.
12M23 | 0.91 | All.
12M24 | 0.28 | All.
12M25 | 1.44 | 50″ or less in width.
12M26 | 1.55 | 50″ or less in width.
12M27 | 0.91 | 50″ or less in width.
12M30 | 0.04 | All.
13M01 | 1.07 | All.
13M03 | 0.45 | All.
13M04 | 0.49 | All.
13M04A | 0.16 | All.
13M04B | 0.11 | All.
13M05 | 0.58 | All.
13M06 | 1.41 | All.
13M07 | 1.24 | All.
13M08 | 1.39 | All.
13M09 | 0.50 | All.
13M09A | 0.06 | All.
13M10 | 12.04 | All.
13M10A | 0.04 | All.
13M10B | 0.13 | All.
13M11 | 1.97 | 50″ or less in width.
13M11A | 1.56 | 50″ or less in width.
13M12 | 1.50 | All.
13M12A | 0.25 | All.
13M13 | 1.07 | All.
13M14 | 1.33 | All.
13M15 | 0.81 | All.
13M16 | 0.54 | All.
13M17 | 1.02 | All.
13M18 | 0.65 | All.
13M19 | 1.19 | All.
13M20 | 0.22 | All.
13M21 | 1.15 | All.
13M21A | 0.22 | All.
13M21B | 0.16 | All.
13M22 | 1.12 | All.
13M23 | 0.60 | All.
13M24 | 0.64 | All.
13M25 | 0.70 | All.
13M26 | 0.59 | All.
13M27 | 0.93 | All.
13M28 | 0.45 | All.
13M29 | 2.24 | All.
13M30 | 0.43 | Motorcycle Only.
13M31 | 2.33 | All.
14M01 | 1.76 | All.
14M01A | 0.22 | All.
14M01B | 0.17 | All.
14M01C | 0.24 | All.
14M02 | 1.24 | All.
14M04 | 0.70 | All.
14M05 | 0.72 | All.
14M06 | 0.37 | All.
14M07 | 0.49 | All.
14M08 | 0.48 | All.
14M09 | 1.41 | All.
14M10 | 0.57 | All.
14M11 | 2.28 | All.
14M12 | 1.52 | All.
15M01 | 1.46 | 50″ or less in width.
15M01A | 0.16 | 50″ or less in width.
15M02 | 1.46 | All.
15M02A | 0.09 | All.
15M02B | 0.72 | All.
15M02C | 0.36 | All.
15M03 | 0.29 | All.
15M04 | 0.32 | All.
15M05 | 2.18 | All.
16M01 | 1.78 | All.
16M03 | 0.77 | All.
16M03A | 0.12 | All.
16M03B | 0.27 | All.
16M04 | 2.08 | All.
16M04A | 0.54 | All.
17M01 | 0.28 | 50″ or less in width.
17M02 | 0.66 | All.
17M03 | 0.51 | All.
17M04 | 0.88 | All.
17M05 | 3.87 | All.
17M06 | 0.72 | All.
17M06A | 0.69 | All.

NFS Motorized Trail Additions in Vehicle Restricted Areas for Yearlong Use
Route ID | Length (miles) | Permitted vehicle class
7M13 | 0.70 | All.
8M20 | 0.19 | All.
12M29 | 0.96 | All.

3. Motorized Open Area Addition—The Plumas National Forest currently has 1 area designated open to wheeled motorized vehicle use. The Plumas National Forest proposes to designate 1 additional open area (36 acres).

Motorized Open Area Additions for Yearlong Use
Area name | Acreage | Permitted vehicle class
8PA2 | 36 | 50″ or less in width.

The proposed action includes a Forest Plan Amendment to add 3 existing routes to the NFS motorized trails system in vehicle restricted areas.

Maps and tables describing in detail both the PNF transportation system and the proposed action can found at: http://www.fs.fed.us/r5/plumas/proj ects_and_plans/ ohv _route_designation/. In addition, maps will be available for viewing at: Supervisor's Office, PO Box 11500, Quincy, California 95971. Beckwourth Ranger District, PO Box 7, Blairsden, California 96103. Mount Hough Ranger District, 39696 Highway 70, Quincy, California 95971. Feather River Ranger District, 875 Mitchell Avenue, Oroville, California 95965-4699.

Responsible Official

Alice B. Carlton, Forest Supervisor, PO Box 11500, Quincy, California 95971.

Nature of Decision To Be Made

The responsible official will decide whether to adopt and implement the proposed action, an alternative to the proposed action, or take no action to make changes to the existing Plumas National Forest Transportation System and prohibit cross country wheeled motorized vehicle travel by the public off the designated system. Once the decision is made, the Plumas National Forest will publish a Motor Vehicle Use Map (MVUM) identifying the roads, trails and open areas that are designated for motor vehicle use by vehicle class.

Scoping Process

Public participation will be especially important at several points during the analysis. The Forest Service will be seeking information, comments, and assistance from the federal, state, and local agencies and other individuals or organizations who may be interested in or affected by the proposed action.

The comment period on the proposed action will extend 60 days from the date the Notice of Intent is published in the Federal Register.

The draft environmental impact statement is expected to be filed with the Environmental Protection Agency (EPA) and to be available for public review by September, 2008. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Plumas National Forest participate at that time.

The final EIS is scheduled to be completed in December, 2008. In the final EIS, the Forest Service is required to respond to comments received during the comment period that pertain to the environmental consequences discussed in the draft EIS and applicable laws, regulations, and policies considered in making the decision. Submission of comments is a prerequisite for eligibility to appeal under the 36 CFR part 215 regulations.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 18, 2007.
Alice B. Carlton,
Forest Supervisor.

[FR Doc. 07-6259 Filed 1-02-08; 8:45 am]

BILLING CODE 3410-11-M